AFRICAN DEVELOPMENT FOUNDATION

Public Quarterly Meeting of the Board of Directors

AGENCY: United States African Development Foundation.

ACTION: Notice of meeting.

SUMMARY: The US African Development Foundation (USADF) will hold its quarterly meeting of the Board of Directors to discuss the agency's programs and administration.

DATES: The meeting date is Monday, July 31, 10:00 a.m. to 1:00 p.m.

ADDRESSES: The meeting will take place via teleconference, with staff congregating at USADF, 1400 I St. Northwest, Suite # 1000 (Main Conference Room), Washington, DC 20005-2246.

FOR FURTHER INFORMATION CONTACT: Marie-Cecile Groelsema, 202-233-8883.

Authority: Public Law 96-533 (22 U.S.C. 290h).

Dated: July 18, 2017.
June B. Brown,
Interim General Counsel.

[FR Doc. 2017-15369 Filed 7-20-17; 8:45 am]

BILLING CODE P